MEDICARE PAYMENT ADVISORY COMMISSION

Commission Meeting

AGENCY: Medicare Payment Advisory Commission.

ACTION: Notice of meeting.

SUMMARY: The Commission will hold its next public meeting on Thursday, January 11, 2001, and Friday, January 12, 2001, at the Ronald Reagan Building, International Trade Center, 1300 Pennsylvania Avenue, NW, Washington, DC. The meeting is tentatively scheduled to begin at 10 a.m. on January 11, and at 9 a.m. on January 12.

Topics for discussion include: issues in post-acute care; Medicare+Choice payment policies; hospital inpatient payment issues; updating payments and accounting for new technology in traditional Medicare; rural quality of care; input-price indexes for all health care settings; evaluating Medicare's payment policies; Medicare+Choice in rural areas; end-stage renal disease payment policies in traditional Medicare; beneficiary co-insurance under the new prospective payment system for hospital outpatient department services; access to care in rural areas; special payment provisions for inpatient care in rural hospitals; payments to rural health clinics; and treatment of the initial residency period for combined training programs in Medicare direct graduate medical education payments.

Agendas will be mailed on January 4, 2000. The final agenda will be available on the Commission's website (www.MedPAC.gov)

ADDRESSES: MedPAC's address is: 1730 K Street, NW., Suite 800, Washington, DC 20006. The telephone number is (202) 653-7220.

FOR FURTHER INFORMATION CONTACT: Diane Ellison, Office Manager, (202) 653-7220.

Murray N. Ross,
Executive Director.

[FR Doc. 01-124 Filed 1-2-01; 8:45 am]

BILLING CODE 6820-BW-M